DEPARTMENT OF TRANSPORTATION

Pipeline and Hazardous Materials Safety Administration

[Docket No. PHMSA-2007-27181 (Notice No. 07-2)]

Information Collection Activities Under OMB Review

AGENCY: Pipeline and Hazardous Materials Safety Administration (PHMSA), DOT.

ACTION: Notice and request for comments.

SUMMARY: In compliance with the Paperwork Reduction Act of 1995, this notice announces that the Information Collection Requests (ICR) abstracted below will be forwarded to the Office of Management and Budget (OMB) for review and comments. The ICRs describe the nature of the information collections and their expected burden. A Federal Register Notice with a 60-day comment period soliciting comments on the following collections of information was published on February 26, 2007 [72 FR 8421]. In response to our Notice, we received one comment concerning the renewal of OMB Control No. 2137-0586, “The Hazardous Materials Public Sector Training and Planning Grants.” A summary of the comment and our response can be found under the abstract for OMB Control No. 2137-0586.

DATES: Interested persons are invited to submit comments on or before June 22, 2007.

ADDRESSES: Because of the recent relocation of the Department of Transportation's Docket Operations facility, which manages the Document Management System (DMS), comments to this notice may be submitted as follows:

1. During the office closure May 25, 2007, through May 29, 2007:

a. Electronically through the DMS at http://dms.dot.gov, which is available 24 hours a day/7 days a week. Click on “Help & Information” to obtain instructions for filing the document electronically.

b. By mail through the U.S. Postal Service after Thursday, May 24, 2007, addressed to: U.S. Department of Transportation, Docket Operations, M-30, West Building Ground Floor, Room W12-140, 1200 New Jersey Ave SE., Washington, DC 20590.

Mail will be forwarded to the new building during this transition period.

2. When the DMS computer is down from June 13, 2007, through June 17, 2007:

a. By mail addressed to: U.S. Department of Transportation, Docket Operations, M-30, West Building Ground Floor, Room W12-140, 1200 New Jersey Ave SE., Washington, DC 20590.

b. By hand delivery to the U.S. Department of Transportation, Docket Operations, M-30, West Building Ground Floor, Room W12-140, 1200 New Jersey Ave SE., Washington, DC 20590.

In every case, the comment should refer to the Docket Number PHMSA-2007-27181 (Notice No. 07-2).

Requests for a copy of an information collection should be directed to Deborah Boothe or T. Glenn Foster, U.S. Department of Transportation, Office of Hazardous Materials Standards (PHH-11), Pipeline and Hazardous Materials Safety Administration, 1200 New Jersey Avenue, SE, East Building, 2nd Floor, Washington, DC 20590-0001, Telephone (202) 366-8553.

FOR FURTHER INFORMATION CONTACT: Deborah Boothe or T. Glenn Foster, U.S. Department of Transportation, Office of Hazardous Materials Standards (PHH-11), Pipeline and Hazardous Materials Safety Administration, 1200 New Jersey Avenue, SE., East Building, 2nd Floor, Washington, DC. 20590-0001, Telephone (202) 366-8553.

SUPPLEMENTARY INFORMATION: Section 1320.8 (d), Title 5, Code of Federal Regulations requires PHMSA to provide interested members of the public and affected agencies an opportunity to comment on information collection and recordkeeping requests. This notice identifies information collection requests that PHMSA will be submitting to OMB for renewal and extension. These information collections are contained in 49 CFR parts 110 and 130 and the Hazardous Materials Regulations (HMR; 49 CFR parts 171-180). PHMSA has revised burden estimates, where appropriate, to reflect current reporting levels or adjustments based on changes in proposed or final rules published since the information collections were last approved. The following information is provided for each information collection: (1) Title of the information collection, including former title if a change is being made; (2) OMB control number; (3) abstract of the information collection activity; (4) description of affected public; (5) estimate of total annual reporting and recordkeeping burden; and (6) frequency of collection. PHMSA will request a three-year term of approval for each information collection activity and, when approved by OMB, publish notice of the approval in the Federal Register.

PHMSA requests comments on the following information collections:

Title: Requirements for Cargo Tanks.

OMB Control Number: 2137-0014.

Type of Request: Extension of a currently approved information collection.

Abstract: This information collection consolidates and describes the information collection provisions in parts 178 and 180 of the HMR involving the manufacture, qualification, maintenance and use of all specification cargo tank motor vehicles. It also includes the information collection and recordkeeping requirements for persons who are engaged in the manufacture, assembly, requalification and maintenance of DOT specification cargo tank motor vehicles. The types of information collected include:

(1) Registration Statements: Cargo tank manufacturers and repairers, and cargo tank motor vehicle assemblers are required to be registered with DOT by furnishing information relative to their qualifications to perform the functions in accordance with the HMR. The registration statements are used to identify these persons in order for DOT to ensure that they possess the knowledge and skills necessary to perform the required functions and they are performing the specified functions in accordance with the applicable regulations.

(2) Requalification and maintenance reports: These reports are prepared by persons who requalify or maintain cargo tanks. This information is used by cargo tank owners, operators and users, and DOT compliance personnel to verify that the cargo tanks are requalified, maintained and are in proper condition for the transportation of hazardous materials.

(3) Manufacturers' data reports, certificates and related papers: These reports are prepared by cargo tank manufacturers and certifiers, and are used by cargo tank owners, operators, users and DOT compliance personnel to verify that a cargo tank motor vehicle was designed and constructed to meet all requirements of the applicable specification.

Affected Public: Manufacturers, assemblers, repairers, requalifiers, certifiers and owners of cargo tanks.

Recordkeeping:

Estimated Number of Respondents: 41,366.

Estimated Number of Responses: 132,600.

Estimated Annual Burden Hours: 102,021.

Frequency of Collection: Periodically.

Title: Inspection and Testing of Portable Tanks and Intermediate Bulk Containers.

OMB Control Number: 2137-0018.

Type of Request: Extension of a currently approved information collection.

Abstract: This information collection consolidates provisions for documenting qualifications, inspections, tests and approvals pertaining to the manufacture and use of portable tanks and intermediate bulk containers under various provisions of the Hazardous Materials Regulations (49 CFR parts 171-180). It is necessary to ascertain whether portable tanks and intermediate bulk containers have been qualified, inspected, and retested in accordance with the HMR. The information is used to verify that certain portable tanks and intermediate bulk containers meet required performance standards prior to their being authorized for use, and to document periodic requalification and testing to ensure the packagings have not deteriorated due to age or physical abuse to a degree that would render them unsafe for the transportation of hazardous materials. Applicable sections include, but are not limited to: § 173.32—requirements for the use of portable tanks; § 173.38—hazardous materials in intermediate bulk containers; § 178.273—approval of specification IM portable tanks and UN portable tanks; § 178.801—general requirements for intermediate bulk containers; § 180.352—requirements for retest and inspection of intermediate bulk containers; and § 180.605—requirements for periodic testing, inspection and repair of portable tanks.

Affected Public: Manufacturers and owners of portable tanks and intermediate bulk containers.

Recordkeeping:

Estimated Number of Respondents: 8,770.

Estimated Number of Responses: 86,100.

Estimated Annual Burden Hours: 66,390.

Frequency of collection: On occasion.

Title: Hazardous Materials Incident Reports.

OMB Control Number: 2137-0039.

Type of Request: Extension of a currently approved information collection.

Abstract: This collection is applicable upon occurrence of incidents as prescribed in §§ 171.15 and 171.16. A Hazardous Materials Incident Report, DOT Form F 5800.1, must be completed by a person in physical possession of a hazardous material at the time a hazardous material incident occurs in transportation, such as a release of materials, serious accident, evacuation or closure of a main artery. Incidents meeting criteria in § 171.15 also require a telephonic report. This information collection enhances the Department's ability to evaluate the effectiveness of its regulatory program, determine the need for regulatory changes, and address emerging hazardous materials transportation safety issues. The requirements apply to all interstate and intrastate carriers engaged in the transportation of hazardous materials by rail, air, water, and highway.

Affected Public: Shippers and carriers of hazardous materials.

Recordkeeping:

Estimated Number of Respondents: 1,781.

Estimated Number of Responses: 17,810.

Estimated Annual Burden Hours: 23,746.

Frequency of collection: On occasion.

Title: Flammable Cryogenic Liquids.

OMB Control Number: 2137-0542.

Type of Request: Extension of a currently approved information collection.

Abstract: Provisions in § 177.840 specify certain safety procedures and documentation requirements for drivers of motor vehicles transporting flammable cryogenic liquids. This information allows the driver to take appropriate remedial actions to prevent a catastrophic release of the flammable cryogenics should the temperature of the material begin to rise excessively or if the travel time will exceed the safe travel time. These requirements are intended to ensure a high level of safety when transporting flammable cryogenics due to their extreme flammability and high compression ratio when in a liquid state.

Affected Public: Carriers of cryogenic materials.

Recordkeeping:

Estimated Number of Respondents: 65.

Estimated Number of Responses: 18,200.

Estimated Annual Burden Hours: 1,213.

Frequency of collection: On occasion.

Title: Container Certification Statement.

OMB Control Number: 2137-0582.

Type of Request: Extension of a currently approved information collection.

Abstract: Shippers of explosives, in freight containers or transport vehicles by vessel, are required to certify on shipping documentation that the freight container or transport vehicle meets minimal structural serviceability requirements. This requirement is intended to ensure an adequate level of safety for transport of explosives aboard vessel and ensure consistency with similar requirements in international standards.

Affected Public: Shippers of explosives in freight containers or transport vehicles by vessel.

Recordkeeping:

Estimated Number of Respondents: 650.

Estimated Number of Responses: 890,000 HM Containers & 4,400 Explosive Containers.

Estimated Annual Burden Hours: 14,908.

Frequency of collection: On occasion.

Title: Hazardous Materials Public Sector Training and Planning Grants.

OMB Control Number: 2137-0586.

Type of Request: Extension of a currently approved information collection.

Abstract: Part 110 of 49 CFR sets forth the procedures for reimbursable grants for public sector planning and training in support of the emergency planning and training efforts of States, Indian tribes and local communities to manage hazardous materials emergencies, particularly those involving transportation. Sections in this part address information collection and recordkeeping with regard to applying for grants, monitoring expenditures, and reporting and requesting modifications.

PHMSA received one comment from the Interested Parties for Hazardous Materials Transportation urging us to require grant applicants to report on the hazardous materials information fees they collect in accordance with § 5125(f) of the Federal hazmat law. The commenter states that such information is important for policy considerations or to determine the appropriateness and necessity of HMEP grant awards.

We have reviewed this request and, based on our findings, will submit a revised information collection to OMB for review and comments in the near future. When we revise the information collection burden for this ICR, we will provide interested members of the public and affected agencies an opportunity to comment by publishing a 60-Day and 30-Day notice in the Federal Register describing the nature of the revised information collection and its expected burden.

Affected Public: State and local governments, Indian tribes.

Recordkeeping:

Estimated Number of Respondents: 66.

Estimated Number of Responses: 66.

Estimated Annual Burden Hours: 4,080.

Frequency of collection: On occasion.

Title: Response Plans for Shipments of Oil.

OMB Control Number: 2137-0591.

Type of Request: Extension of a currently approved information collection.

Abstract: In recent years, several major oil discharges damaged the marine environment of the United States. Under authority of the Federal Water Pollution Control Act, as amended by the Oil Pollution Act of 1990, PHMSA issued regulations in 49 CFR part 130 that require preparation of written spill response plans.

Affected Public: Carriers that transport oil in bulk, by motor vehicle or rail.

Recordkeeping:

Estimated Number of Respondents: 8,000.

Estimated Number of Responses: 8,000.

Estimated Annual Burden Hours: 10,560.

Frequency of collection: On occasion.

Title: Cargo Tank Motor Vehicles in Liquefied Compressed Gas Service.

OMB Control Number: 2137-0595.

Type of Request: Extension of a currently approved information collection.

Abstract: These information collection and recordkeeping requirements pertain to the manufacture, certification, inspection, repair, maintenance, and operation of certain DOT specification and non-specification cargo tank motor vehicles used to transport liquefied compressed gases. These requirements are intended to ensure certain cargo tank motor vehicles used to transport liquefied compressed gases are operated safely, and to minimize the potential for catastrophic releases during unloading and loading operations. They include: (1) Requirements for operators of cargo tank motor vehicles in liquefied compressed gas service to develop operating procedures applicable to unloading operations and carry the operating procedures on each vehicle; (2) inspection, maintenance, marking, and testing requirements for the cargo tank discharge system, including delivery hose assemblies; and (3) requirements for emergency discharge control equipment on certain cargo tank motor vehicles transporting liquefied compressed gases that must be installed and certified by a Registered Inspector. (See sections 173.315(n); 177.840(l); 180.405; 180.407(h); and 180.416(b), (d) and (f))

Affected Public: Carriers in liquefied compressed gas service, manufacturers and repairers.

Recordkeeping:

Estimated Number of Respondents: 6,958.

Estimated Number of Responses: 920,530.

Estimated Annual Burden Hours: 200,615.

Frequency of collection: On occasion.

Issued in Washington, DC on May 16, 2007.
Theodore L. Willke,
Acting Associate Administrator for Hazardous Materials Safety.

[FR Doc. E7-9872 Filed 5-22-07; 8:45 am]

BILLING CODE 4910-60-P